FARM CREDIT ADMINISTRATION

12 CFR Part 615

RIN 3052-AD44

Bank Liquidity Reserve

AGENCY: Farm Credit Administration.

ACTION: Advance notice of proposed rulemaking; extension of comment period.

SUMMARY: The Farm Credit Administration (FCA or we) is extending the comment period on its Advance Notice of Proposed Rulemaking (ANPRM) that seeks comment from the public about whether and how FCA should revise its liquidity regulatory framework for Farm Credit System (System) banks. FCA is extending the comment period for an additional 60 days, until November 27, 2021, so interested parties will have additional time to provide comments on the ANPRM.

DATES: The comment period for the Advance Notice of Proposed Rulemaking on Bank Liquidity Reserves, published on June 30, 2021 (86 FR 34645), is extended from September 28, 2021, to November 27, 2021.

ADDRESSES: For accuracy and efficiency reasons, please submit comments by email or through FCA's website. We do not accept comments submitted by facsimiles (fax), as faxes are difficult for us to process and achieve compliance with section 508 of the Rehabilitation Act of 1973. Please do not submit your comment multiple times via different methods. You may submit comments by any of the following methods:

• Email: Send us an email at reg-comm@fca.gov.

• FCA website: http://www.fca.gov. Click inside the “I want to . . .” field near the top of the page; select “comment on a pending regulation” from the dropdown menu; and click “Go.” This takes you to an electronic public comment form.

• Mail: Kevin J. Kramp, Director, Office of Regulatory Policy, Farm Credit Administration, 1501 Farm Credit Drive, McLean, VA 22102-5090.

You may review copies of comments we receive on our website at http://www.fca.gov. Once you are on the website, click inside the “I want to . . .” field near the top of the page; select “find comments on a pending regulation” from the dropdown menu; and click “Go.” This will take you to the Comment Letters page where you can select the regulation for which you would like to read the public comments.

We will show your comments as submitted, including any supporting data provided, but for technical reasons we may omit items such as logos and special characters. Identifying information that you provide, such as phone numbers and addresses, will be publicly available. However, we will attempt to remove email addresses to help reduce internet spam. You may also review comments at our office in McLean, Virginia. Please call us at (703) 883-4056 or email us at reg-comm@fca.gov to make an appointment.

FOR FURTHER INFORMATION CONTACT:

Technical information: Ryan Leist, LeistR@fca.gov, Senior Accountant, or Jeremy R. Edelstein, EdelsteinJ@fca.gov, Associate Director, Finance and Capital Markets Team, Office of Regulatory Policy, Farm Credit Administration, McLean, VA 22102-5090, (703) 883-4414, TTY (703) 883-4056, or ORPMailbox@fca.gov; or

Legal information: Richard Katz, KatzR@fca.gov, Senior Counsel, Office of General Counsel, Farm Credit Administration, McLean, VA 22102-5090, (703) 883-4020, TTY (703) 883-4056.

SUPPLEMENTARY INFORMATION: On June 30, 2021, FCA published an ANPRM in the Federal Register seeking public comment on whether and how we should amend our liquidity regulations for System banks so they can better withstand crises that adversely impact liquidity and pose risks to their viability. The comment period is currently scheduled to close on September 28, 2021. See 86 FR 34645. On July 28, 2021, FCA received a request to extend the comment period for an additional 60 days. FCA is granting this request, and accordingly, the comment period is extended until November 27, 2021.

Dated: August 30, 2021.
Dale Aultman,
Secretary, Farm Credit Administration Board.

[FR Doc. 2021-18984 Filed 9-2-21; 8:45 am]

BILLING CODE 6705-01-P